DEPARTMENT OF DEFENSE

Department of the Army; Corps of Engineers

Chief of Engineers Environmental Advisory Board; Meeting

AGENCY: Department of the Army, U.S. Army Corps of Engineers, DoD.

ACTION: Notice of open meeting.

SUMMARY: In accordance with 10(a)(2) of the Federal Advisory Committee Act (Pub. L. 92-463), announcement is made of the forthcoming meeting. The meeting is open to the public.

Name of Committee: Chief of Engineers Environmental Advisory Board (EAB).

Date: November 6, 2003.

Location: Crowne Plaza Hotel—Old Mill, 655 N. 108 Avenue, Omaha, NE 68154, (402) 496-0850.

Time: 8:30 a.m. to 12 p.m.

FOR FURTHER INFORMATION CONTACT: Mr. Norman Edwards, Headquarters, U.S. Army Corps of Engineers, Washington, DC 20314-1000; Ph: (202) 761-4559.

SUPPLEMENTARY INFORMATION: The Board advises the Chief of Engineers on environmental policy, identification and resolution of environmental issues and missions, and addressing challenges, problems and opportunities in an environmentally sustainable manner. The EAB will visit many locations on the Missouri River prior to the meeting to gain a better perspective of the issues of national significance associated with that river system. The public meeting, however, will focus on the generic issue of independent science review. The intent of this meeting is to present an opportunity for the Chief of Engineers to receive the views of his EAB. Time will be provided, however, for public comment. Each speaker will be limited to no more than three minutes in order to accommodate as many people as possible within the limited time available. If you wish to receive electronic notice of future meetings you may subscribe to a list server at: http://www.usace.army.mil/inet/functions/cw/hot_topics/eab.htm.

Luz D. Ortiz,
Army Federal Register Liaison Officer.

[FR Doc. 03-26433 Filed 10-20-03; 8:45 am]

BILLING CODE 3710-92-M